DEPARTMENT OF HOMELAND SECURITY

Coast Guard

[Docket No. USCG-2009-0365]

Comment Request on MARPOL Annex V Wider Caribbean Region Special Area

AGENCY: Coast Guard, DHS.

ACTION: Notice of Request for Comments.

SUMMARY: The Coast Guard seeks comments from the public on the effects of implementing the special area discharge standards on vessel and reception facility operations when the Wider Caribbean region (WCR) special area comes into effect. The Coast Guard also seeks recommendations from the public on how to efficiently transition from the current standards regulating garbage discharges to the special area discharge standards in the WCR when the WCR special area comes into effect.

DATES: Comments and related material must either be submitted to our online docket via http://www.regulations.gov on or before November 4, 2009 or reach the Docket Management Facility by that date.

ADDRESSES: You may submit comments identified by docket number USCG-2009-0365 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, call or e-mail Bryana Nicholas, telephone 202-372-1429, e-mail: Bryana.k.nicholas@uscg.mil; or David Condino, telephone 202-372-1145, e-mail: david.a.condino@uscg.mil. If you have questions on viewing or submitting material to the docket, call Renee V. Wright, Program Manager, Docket Operations, telephone 202-366-9826.

SUPPLEMENTARY INFORMATION:

Public Participation and Request for Comments

We encourage you to submit comments and related material. All comments received will be posted, without change, to http://www.regulations.gov and will include any personal information you have provided.

Submitting comments: If you submit a comment, please include the docket number for this notice (USCG-2009-0365) and provide a reason for each suggestion or recommendation. You may submit your comments and material online, or by fax, mail or hand delivery, but please use only one of these means. We recommend that you include your name and a mailing address, an e-mail address, or a telephone number in the body of your document so that we can contact you if we have questions regarding your submission.

To submit your comment online, go to http://www.regulations.gov, click on the “submit a comment” box, which will then become highlighted in blue. In the “Document Type” drop down menu select “Notices” and insert “USCG-2009-0365” in the “Keyword” box. Click “Search” then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments: To view the comments, go to http://www.regulations.gov, click on the “read comments” box, which will then become highlighted in blue. In the “Keyword” box insert “USCG-2009-0365” and click “Search.” Click the “Open Docket Folder” in the “Actions” column. If you do not have access to the Internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Background and Purpose

The International Convention for the Prevention of Pollution from Ships (MARPOL), is an international agreement on the subject of marine pollution. The United States is a party to the Convention and has developed national regulations implementing the standards set out in MARPOL. MARPOL Annex V provides regulations for the prevention of pollution by garbage from ships. Annex V also allows for the creation of special areas with more stringent regulations for the discharge of garbage.

In September 1990, the United States proposed to the International Maritime Organization (IMO), Marine Environment Protection Committee, to establish the Gulf of Mexico as a special area under MARPOL Annex V. In November 1990, Venezuela submitted an amendment to the proposal to include the Wider Caribbean region along with the Gulf of Mexico as a special area under MARPOL Annex V. The IMO adopted the WCR special area, including the Gulf of Mexico and the Caribbean Sea, in July 1991. In August 1995, the Coast Guard added the WCR special area to the Code of Federal Regulations, as described in 33 CFR 151.06(a)(12) (see, 60 FR 43377, Aug. 21, 1995; 73 FR 35013, Jun. 19, 2008). In accordance with 33 CFR § 151.53 and paragraph 4(b) of Regulation 5 of Annex V of MARPOL, the WCR special area will enter into effect when each party to the Convention whose coastline borders the WCR special area has certified that reception facilities are available and the IMO establishes an effective date for the special area.

In accordance with MARPOL Regulations 5 and 7, the United States has provided the required notification to IMO regarding our MARPOL Annex V reception facilities. However, because all of the parties to MARPOL within the WCR special area have yet to make sufficient notifications that reception facilities exist in the WCR special area to allow for compliance with the special area discharge standards in the Annex, the IMO has not yet established a date for the WCR special area to come into effect.

When the WCR special area enters into effect, the more restrictive discharge standards in 33 CFR 151.71 and Regulation 5 of MARPOL Annex V will also enter into effect. In general, these regulations prohibit the discharge of all garbage from a ship in special areas except food wastes. The discharge of food wastes must be made as far as practicable from land, but in any case not less than 12 nautical miles from the nearest land. However, in the WCR special area food wastes comminuted or ground and capable of passing through a screen with openings no greater than 25 millimeters may be discharged not less than 3 nautical miles from the nearest land.

The Coast Guard will not speculate as to a time line, and there currently is no time line, for the WCR special area coming into effect. In anticipation of the WCR special area entering into effect at some point in the future, the Coast Guard invites the public, commercial interests, local, State, Federal agencies, Non-Governmental Organizations (NGOs), public interest groups, trade organizations, and all other interested parties to comment on the WCR special area entering into effect.

The Coast Guard is specifically interested in identifying all issues that impact port reception facilities, commercial shipping vessels, and recreational vessels operating in the WCR special area and in obtaining recommendations to address those issues. The Coast Guard seeks input on the following general issues:

• Additional MARPOL Annex V port reception facility capacity needed when the WCR special area goes in to effect;

• The impact on MARPOL Annex V cargo residues within the WCR special area;

• Impacts of MARPOL Annex V waste collection requirements on local/regional waste disposal capacity and infrastructure located within ports in the WCR special area;

• Time needed to ensure compliance with WCR special area discharge standards.

The Coast Guard would also like to receive public input concerning the following questions:

• How many vessels operating in the WCR currently treat it as a special area and adhere to the special area discharge standards?

• What would be the operational impact to vessels discharging MARPOL Annex V garbage, including cargo residues and cargo hold wash-water containing cargo residue at a port reception facility?

• Is there current capability to accept MARPOL Annex V cargo residues and cargo residue wash-water from vessels, and do cargo vessels currently use this type of reception facility?

• How much additional MARPOL Annex V garbage would need to be offloaded at port reception facilities, and will currently adequate port reception facilities still be adequate when the WCR special area goes into effect?

• What effect, if any, will the discharge restrictions in the WCR special area have on U.S. port and terminal operators holding a Certificate of Adequacy (COA)?

• Will U.S. port and facility operators be able to meet increased quantity and capacity requirements and ensure that port reception facilities can meet the needs of all vessels calling at their ports?

• How many vessels operate solely within the WCR special area?

Written comments and responses to the above questions will be added to the docket number for this notice (USCG-2009-0365). The Coast Guard intends to review and analyze all comments received in order to develop a way forward for the implementation of the discharge standards when the WCR special area comes into effect.

This notice is issued under authority of 33 CFR 151.53(b) and 5 U.S.C. 552.

Dated: July 30, 2009.
J.G. Lantz,
Director of Commercial Regulations and Standards.

[FR Doc. E9-18741 Filed 8-5-09; 8:45 am]

BILLING CODE 4910-15-P